FEDERAL TRADE COMMISSION

16 CFR Parts 0, 1, 2, 3 and 4

Rules of Practice

In rule document 2023-12630 beginning on page 42872 in the issue of Wednesday, July 5, 2023, make the following corrections:

On page 42872, in the third column, under DATES, in the first and fourth lines “June 5, 2023” should read “July 5, 2023”.

[FR Doc. C1-2023-12630 Filed 7-13-23; 8:45 am]

BILLING CODE 0099-10-D